DEPARTMENT OF HOMELAND SECURITY

Bureau of Customs and Border Protection

Retraction of Revocation Notice

AGENCY: Bureau of Customs and Border Protection, U.S. Department of Homeland Security.

ACTION: General notice.

SUMMARY: The following Customs broker licenses were erroneously included in a list of revoked Customs broker licenses.

Name | License | Port name
Lindsey Forwarders, Inc. | 14223 | Portland, OR.
Judith Demeron | 9637 | Chicago.

Customs broker license Nos. 14223 and 9637 remain valid.

Dated: April 14, 2003.
Jayson P. Ahern,
Assistant Commissioner, Office of Field Operations.

[FR Doc. 03-9756 Filed 4-18-03; 8:45 am]

BILLING CODE 4820-02-P